DEPARTMENT OF HOMELAND SECURITY

Coast Guard

[USCG-2006-23652]

Temporary Authorization To Extend Certificates of Inspection and Certificates of Compliance

AGENCY: Coast Guard, DHS.

ACTION: Notice of policy.

SUMMARY: The Coast Guard announces that Congress authorized (through H.R. 4508), the Secretary of Homeland Security to extend temporarily the duration or the validity of Certificates of Inspection and Certificates of Compliance that are issued under chapter 33 or 37, respectively, of title 46, U.S. Code. These certificates may be extended for up to three (3) months for any vessel inspected by the Coast Guard in Alabama, Mississippi, or Louisiana.

DATES: This temporary extension authorization for the Secretary of Homeland Security expires on February 28, 2006.

ADDRESSES: Vessel owners or operators must send written requests for extensions to the local Officer in Charge, Marine Inspection (OCMI) for consideration.

FOR FURTHER INFORMATION CONTACT: If you have questions regarding this notice, contact Lieutenant Commander Brian J. Downey, Office of Vessel Activities (G-PCV-1), by telephone 202-267-0495, fax 202-267-4394, or e-mail BDowney@comdt.uscg.mil. If you have questions on viewing to the docket, call Ms. Renee V. Wright, Program Manager, Docket Operations, telephone 202-493-0402.

SUPPLEMENTARY INFORMATION:

Background

Following the devastation of Hurricane Katrina that struck the U.S. Gulf Coast on August 29, 2005, the Coast Guard mounted an unprecedented emergency response. Urgent reprioritization of Coast Guard missions and reallocation of resources was required to effectively manage the regional response. In an effort to reduce the impact to the marine industry because of the Coast Guard's hurricane response measures, Congress authorized temporary vessel inspection regulatory relief through H.R. 4508.

Policy

Vessel owners or operators must send written requests for extensions to the local Officer in Charge, Marine Inspection (OCMI) for consideration. OCMIs, at their discretion, may extend expiration dates for Certificates of Inspection (COIs) and Certificates of Compliance (COCs) that will expire before February 28, 2006. Extensions are only authorized in cases where the OCMI lacks resources to provide timely service or in cases where vessel operators clearly document that an extension is required to provide direct/emergent hurricane relief efforts. Vessels, not normally inspected in Alabama, Mississippi or Louisiana are not eligible for extension. Vessels with certificates expiring after February 28, 2006 are not eligible for extension. Vessel owner/operator requests should define the length of extension required (not to exceed 90 days), outline the cause for the extension, and should attest to the vessel's substantial compliance with applicable inspection regulations. OCMIs must authorize all extensions with official correspondence to the requester detailing the extended expiration date. Vessels operating with expired COIs and COCs without a written extension are in violation of applicable vessel inspection laws and can be subject to enforcement action.

Dated: January 13, 2006.
Craig E. Bone,
Rear Admiral, U.S. Coast Guard, Acting Assistant Commandant for Prevention.

[FR Doc. E6-754 Filed 1-23-06; 8:45 am]

BILLING CODE 4910-15-P